DEPARTMENT OF COMMERCE

National Oceanic and Atmospheric Administration

Notice of Performance Evaluation of the Waquoit Bay National Estuarine Research Reserve and Public Meeting; Request for Comments

AGENCY: Office for Coastal Management, National Ocean Service (NOS), National Oceanic and Atmospheric Administration (NOAA), Department of Commerce (DOC).

ACTION: Notice of public meeting and opportunity to comment.

SUMMARY: The National Oceanic and Atmospheric Administration (NOAA), Office for Coastal Management, will hold a public meeting to solicit comments on the performance evaluation of the Waquoit Bay National Estuarine Research Reserve. NOAA also will provide an opportunity for written comments on the performance evaluation.

DATES: Comments due: July 1, 2022. A public meeting will be held on Thursday, June 23, 2022, at 6 p.m. at Waquoit Bay National Estuarine Research Reserve Visitor Center, 131 Waquoit Hwy. (Rt. 28), Waquoit (E Falmouth), MA 02536.

ADDRESSES: You may submit written comments by emailing Ralph Cantral, Evaluator, NOAA Office for Coastal Management, at Ralph.Cantral@noaa.gov.

Timely comments received by the Office for Coastal Management are considered part of the public record and may be publicly accessible. Any personal information (e.g., name, address) submitted voluntarily by the sender in the body of the email and any attachments to the email may also be publicly accessible. NOAA will accept anonymous comments.

You may also provide public comments during the public meeting, which is being held on Thursday, June 23, 2022, at 6 p.m. at Waquoit Bay National Estuarine Research Reserve Visitor Center, 131 Waquoit Hwy. (Rt. 28), Waquoit (E Falmouth), MA 02536.

Copies of the previous reserve evaluation findings, reserve management plan, and reserve site profile may be viewed and downloaded on the internet at https://coast.noaa.gov/czm/evaluations. A copy of the evaluation notification letter and most recent progress report may be obtained upon request by contacting Ralph Cantral at ralph.cantral@noaa.gov.

FOR FURTHER INFORMATION CONTACT: Ralph Cantral, Ralph.Cantral@noaa.gov, (843) 474-1357.

SUPPLEMENTARY INFORMATION: Section 312 of the Coastal Zone Management Act (CZMA) requires NOAA to conduct periodic evaluations of federally-approved national estuarine research reserves. The evaluation process includes holding one or more public meetings, consideration of written public comments, and consultations with interested federal, state, and local agencies and members of the public. During the evaluation, NOAA will consider the extent to which the Commonwealth of Massachusetts has met the national objectives, adhered to the management plan approved by the Secretary of Commerce, and adhered to the terms of financial assistance under the CZMA. When the evaluation is completed, NOAA's Office for Coastal Management will place a notice in the Federal Register announcing the availability of the final evaluation findings.

Keelin Kuipers,
Deputy Director, Office for Coastal Management National Ocean Service, National Oceanic and Atmospheric Administration.

[FR Doc. 2022-09935 Filed 5-9-22; 8:45 am]

BILLING CODE 3510-JE-P